DEPARTMENT OF JUSTICE

Notice of Lodging of Consent Decree Under the Clean Air Act

Notice is hereby given that on August 10, 2007, a proposed Consent Decree was filed in United States, the State of Indiana, and the City of Hammond, Indiana v. Jupiter Aluminum Corporation, Civil Action No. 2:07 CV 262 PS, with the United States District Court for the Northern District of Indiana, Hammond Division.

The United States filed a civil action on August 9, 2007, seeking injunctive relief and a civil penalty against Jupiter Aluminum Corporation (“Jupiter”) for alleged violations of the National Emission Standards for Hazardous Air Pollutants applicable to secondary aluminum production facilities, under the Clean Air Act. The Jupiter aluminum recycling facility that is the subject of the lawsuit is located in Hammond, Indiana. The State of Indiana and the City of Hammond intervened as co-plaintiffs in the federal lawsuit, and filed complaints in intervention. All claims alleged in the United States', the State's and the City's complaints would be resolved by a settlement reflected in the Consent Decree, if approved by the court.

Under the proposed Consent Decree, Jupiter will perform tests to determine whether recent modifications to the pollution control equipment on its melting furnaces adequately captures fugitive emissions and whether the equipment adequately removes dioxin/furans, hydrochloric acid and particulate matter. If the tests demonstrate that Jupiter is not adequately capturing fugitive emissions or not adequately removing pollutants, Jupiter will be required to make further modifications, or alter its production processes to ensure compliance. The decree also requires Jupiter to properly weigh scrap aluminum before melting it in the furnaces, and to keep records of the type and amount of scrap used, to fund an independent monitoring consultant to assist the regulatory agencies in monitoring compliance, to allow Hammond to video record its furnace operations for compliance purposes, to resubmit an Operation, Maintenance and Monitoring Plan, and to improve maintenance and recordkeeping practices. Under the Consent Decree, Jupiter also will pay a civil penalty of $2.0 million, to be divided between the United States and Hammond.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States, Indiana and Hammond v. Jupiter Aluminum Corp., D.J. Ref. 90-5-2-1-08734.

The Consent Decree may be examined at the Office of the United States Attorney, Northern District of Indiana, 5400 Federal Plaza, Suite 1500, Hammond, Indiana 46320, and at U.S. EPA Region 5, Regional Counsel's Office, 77 West Jackson Blvd., Chicago, Illinois 60604. During the public comment period, the Consent Decree may also be examined on the following Department of Justice Web site: http://www.usdoj.gov/enrd/Consent_Decrees.html. A copy of the Jupiter Aluminum Consent Decree may also be obtained by mail from the Consent Decree Library, P.O. Box 7611, U.S. Department of Justice, Washington, DC 20044-7611, or by faxing or e-mailing a request to Tonia Fleetwood (tonia-fleetwood@usdoj.gov), fax number (202) 514-0097, phone confirmation number (202) 514-1547. In requesting a copy from the Consent Decree Library, please enclose a check in the amount of $22.00 (25 cents per page reproduction cost) payable to the U.S. Treasury or, if by e-mail or fax, forward a check in that amount to the Consent Decree Library at the stated address.

William D. Brighton,
Assistant Chief, Environmental Enforcement Section, Environment and Natural Resources Division.

[FR Doc. 07-4066 Filed 8-20-07; 8:45 am]

BILLING CODE 4410-15-M